DEPARTMENT OF TRANSPORTATION

Federal Aviation Administration

14 CFR Part 39

[Docket No. FAA-2013-0603; Directorate Identifier 2009-SW-079-AD]

RIN 2120-AA64

Airworthiness Directives; Bell Helicopter Textron Canada Limited Helicopters

AGENCY: Federal Aviation Administration (FAA), DOT.

ACTION: Notice of proposed rulemaking (NPRM).

SUMMARY: We propose to adopt a new airworthiness directive (AD) for certain serial-numbered Bell Helicopter Textron Canada Limited (BHTC) Model 206L, 206L-1, 206L-3, and 206L-4 helicopters with a certain tailboom upper left attachment fitting (fitting). This proposed AD would require inspecting the fitting for a crack and other conditions. This proposed AD is prompted by the manufacturer revising and extending the 100 hour time-in-service (TIS) inspection requirements for the fitting. The proposed actions are intended to detect a crack, loose rivet, corrosion, or any other damage, which could lead to loss of the tailboom and subsequent loss of control of the helicopter.

DATES: We must receive comments on this proposed AD by September 10, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Bell Helicopter Textron Canada Limited, 12,800 Rue de l'Avenir, Mirabel, Quebec J7J1R4, telephone (450) 437-2862 or (800) 363-8023, fax (450) 433-0272, or at http://www.bellcustomer.com/files/. You may review the referenced service information at the FAA, Office of the Regional Counsel, Southwest Region, 2601 Meacham Blvd., Room 663, Fort Worth, Texas 76137.

FOR FURTHER INFORMATION CONTACT: Sharon Miles, Aerospace Engineer, FAA, Regulations and Policy Group, 2601 Meacham Blvd., Fort Worth, Texas 76137; telephone: (817) 222-5110; email: sharon.y.miles@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

Transport Canada (TC), which is the aviation authority for Canada, has issued AD No. CF-2009-41, dated November 16, 2009 (AD CF-2009-41), to correct an unsafe condition for BHTC Model 206L series helicopters, specifically: Model 206L, serial number (S/N) 45004 through 45153, and 46601 through 46617; Model 206L-1, S/N 45154 through 45790; Model 206L-3, S/N 51001 through 51612; and Model 206L-4, all S/Ns. TC AD No. CF-2009-41 was prompted by a new airworthiness limitation for the fitting that requires an inspection of fitting part number 203-032-409-001 at each 100-hour or annual inspection. The TC AD requires inspecting the fitting, and replacing or repairing it if necessary, in accordance with the Accomplishment Instructions of BHTC Alert Service Bulletin (ASB) 206L-09-158, Revision A, dated August 31, 2009 (ASB 206L-09-158 Revision A). TC further states that incorporating this inspection into the applicable maintenance manual revision constitutes terminating action to TC AD No. CF-2009-41. The actions in TC AD No. CF-2009-41 are intended to detect a crack in a tailboom attachment fitting, which could result in loss of the tailboom and subsequent loss of control of the helicopter.

FAA's Determination

These helicopters have been approved by the aviation authority of Canada and are approved for operation in the United States. Pursuant to our bilateral agreement with Canada, TC, its technical representative, has notified us of the unsafe condition described in its AD. We are proposing this AD because we evaluated all known relevant information and determined that an unsafe condition is likely to exist or develop on other products of the same type design.

Related Service Information

We reviewed ASB 206L-09-158 Revision A for certain serial-numbered Model 206L, L-1, L-3, and L-4 helicopters with certain tailboom assemblies installed. That ASB requires an inspection of the fitting for a crack, loose rivets, corrosion, and damage at each 100-hour or annual inspection. If there is a crack, the ASB specifies replacing the fitting with an airworthy fitting. If there is a loose rivet, the ASB specifies replacing the rivet with an airworthy rivet. If the fitting has corrosion or mechanical damage, the ASB specifies determining if the corrosion or mechanical damage is within acceptable limits. If the corrosion or mechanical damage is within acceptable limits, the ASB specifies repairing the damage in accordance with the instructions contained in the ASB. If the damage is not within acceptable limits, the ASB specifies replacing the fitting with an airworthy fitting. TC classified this ASB as mandatory and issued AD No. CF-2009-41 to ensure the continued airworthiness of these helicopters.

Since that time, BHTC has issued ASB 206L-09-158, Revision B, dated June 1, 2011, for all Model 206L series helicopters. Revision B of the ASB changes the recurring inspection interval from every 100 flight hours to every 110 flight-hours.

Proposed AD Requirements

This proposed AD would require, within 100 hours TIS and thereafter at intervals not exceeding 110 hours TIS, inspecting the upper left tailboom attachment fitting for a crack, corrosion, damage, or a loose rivet. If there is a crack or corrosion or damage beyond acceptable limits, this proposed AD would require replacing the upper left tailboom attachment fitting with an airworthy fitting. If there is corrosion or damage within acceptable limits, this proposed AD would require repairing the fitting. If there is a loose rivet, this proposed AD would require replacing the loose rivet.

Differences Between This Proposed AD and the Transport Canada AD

The Transport Canada AD requires a recurring inspection every 100 hours, while this proposed AD would require the inspection at intervals not to exceed 110 hours to align with the Bell ASB.

Costs of Compliance

We estimate that this proposed AD would affect 783 helicopters of U.S. Registry.

We estimate that operators may incur the following costs in order to comply with this AD. At an average labor rate of $85 per hour, inspecting the fitting will require about 1 work hour, for a cost per helicopter of $85 and a total cost to U.S. operators of $66,555 per inspection cycle.

We estimate the following costs to do any necessary repairs or replacements that would be required based on the results of the proposed inspection. We have no way of determining the number of aircraft that might need these repairs or replacements. Repairing a damaged fitting would require about 8 work-hours and required parts would cost about $10, for a cost per helicopter of $690. Replacing a fitting which is damaged beyond the allowable repair limits would require about 8 work-hours and required parts would cost about $793, for a cost per helicopter of $1,473. Replacing a loose rivet would require about 1 work-hour, and required parts would cost about $1, for a cost per helicopter of $86.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bell Helicopter Textron Canada (BHTC): Docket No. FAA-2013-0603; Directorate Identifier 2009-SW-79-AD.

(a) Applicability

This AD applies to BHTC Model 206L, Model 206L-1, Model 206L-3, and Model 206L-4 helicopters, with an upper left attachment fitting part number 206-032-409-001 installed, certificated in any category.

(b) Unsafe Condition

This AD defines the unsafe condition as a crack in a tailboom attachment fitting, which could result in loss of the tailboom and subsequent loss of control of the helicopter.

(c) Comments Due Date

We must receive comments by September 10, 2013.

(d) Compliance

You are responsible for performing each action required by this AD within the specified compliance time unless it has already been accomplished prior to that time.

(e) Required Actions

(1) At the next 100-hour inspection, and thereafter at intervals not to exceed 110 hours time-in-service, inspect each tailboom upper left attachment fitting (fitting) for a crack, a loose rivet, corrosion, or damage as depicted in Figure 2 of BHTC Alert Service Bulletin 206L-09-158, Revision B, dated June 1, 2011 (ASB 206L-09-158).

(2) If there is a crack, corrosion, or damage beyond the acceptable limits of Figure 2 of ASB 206L-09-158, before further flight, replace the fitting with an airworthy fitting.

(3) If there is corrosion or damage within the acceptable limits of Figure 2 of ASB 206L-09-158, before further flight, repair the fitting as described in the Accomplishment Instructions, Part I, paragraphs 5.b.(1) through 5.b.(6), of ASB 206L-09-158.

(4) If there is a loose rivet, before further flight, replace the loose rivet with an airworthy rivet.

(f) Alternative Methods of Compliance (AMOCs)

(1) The Manager, Safety Management Group, FAA, may approve AMOCs for this AD. Send your proposal to: Sharon Miles, Aerospace Engineer, FAA, Regulations and Policy Group, 2601 Meacham Blvd., Fort Worth, Texas 76137; telephone: (817) 222-5122; fax: (817) 222-5961; email: sharon.y.miles@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) The subject of this AD is addressed in Transport Canada Civil Aviation (TCCA) AD No. CF-2009-41, dated November 16, 2009. You may view the TCCA AD at http://www.regulations.gov in Docket No. FAA-2013-0603.

(h) Subject

Joint Aircraft Service Component (JASC) Code: 5302: Rotorcraft Tailboom.

Issued in Fort Worth, Texas, on July 1, 2013.
Kim Smith,
Directorate Manager, Rotorcraft Directorate, Aircraft Certification Service.

[FR Doc. 2013-16695 Filed 7-11-13; 8:45 am]

BILLING CODE 4910-13-P